NATIONAL SCIENCE FOUNDATION

Special Emphasis Panel in Physics; Notice of Meeting

In accordance with the Federal Advisory Committee Act (Pub. Law 92-463, as amended), the National Science Foundation announces the following meetings of the Special Emphasis Panel in Physics (1208):

Date/Time: November 8-9, 2000; 8 a.m.-5:30 p.m.

Place: National Science Foundation, 4201 Wilson Blvd., Room 330 and 1005, Arlington, VA.

Contact Person: Dr. Marvin Goldberg, Program Director for Elementary Particle Physics, Division of Physics, National Science Foundation, 4201 Wilson Boulevard, Room 1015, Arlington, VA 22230. Telephone: (703) 292-7374.

Purpose of Meeting: To provide advice and recommendations concerning proposals submitted to the Elementary Particle Physics Program for the Rare Symmetry Violating Processes on major project costs of proposals submitted to NSF for financial support.

Date/Time: November 14, 2000; 9 a.m.-6 p.m.

Place: National Science Foundation, 4201 Wilson Blvd., Room 1105, Arlington, VA.

Contact Person: Dr. Boris Kayser, Program Director for Theoretical Physics, Division of Physics, National Science Foundation, 4201 Wilson Boulevard, Room 1015, Arlington, VA 22230. Telephone: (703) 292-7376.

Purpose of Meeting: To provide advice and recommendations concerning proposals submitted to the Theoretical Physics Program for financial support.

Date/Time: November 28-30, 2000; 8 a.m.-5:30 p.m.

Place: National Science Foundation, 4201 Wilson Blvd., Room 370 and 970, Arlington, VA.

Contact Person: Dr. Marvin Goldberg, Program Director for Elementary Particle Physics, Division of Physics, National Science Foundation, 4201 Wilson Boulevard, Room 1015, Arlington, VA 22230. Telephone: (703) 292-7374.

Purpose of Meeting: To provide advice and recommendations concerning proposals submitted to the Elementary Particle Physics Program for financial support.

Agenda: To review and evaluate proposals as part of the selection process for awards.

Reason for Closing: The proposals being reviewed include information of a proprietary or confidential nature, including technical information, financial data, such as salaries; and personal information concerning individuals associated with the proposals. These matters are exempt under 5 U.S.C. 552b(c), (4) and (6) of the Government in the Sunshine Act.

Dated: October 23, 2000.
Karen J. York,
Committee Management Officer.

[FR Doc. 00-27545 Filed 10-25-00; 8:45 am]

BILLING CODE 7555-01-M